Election Assistance Commission

Notice of Sunshine Act Meeting

AGENCY: U.S. Election Assistance Commission.

ACTION: Notice of public meeting agenda.

DATE and TIME: Wednesday, May 25, 2016, (9:00 a.m.-1:00 p.m.—EDT)

PLACE: 1335 East West Highway (First Floor Conference Room), Silver Spring, MD 20910.

AGENDA: Commissioners will meet to release a 2016 Election Worker Guidebook, State Compendium of Election Worker Requirements, and Election Worker Webisode. Commissioners will hear from state and local election officials, and research experts to: (1) Discuss ways to recruit and train election workers; and (2) discuss the allocation of resources at the polls on Election Day.

STATUS: This meeting will be open to the public.

PERSON TO CONTACT FOR INFORMATION: Bryan Whitener, Telephone: (301) 563-3961.

Signed:
Bryan Whitener,
Director of Communications and Clearinghouse, U.S. Election Assistance Commission.

[FR Doc. 2016-12177 Filed 5-19-16; 4:15 pm]

BILLING CODE 6820-KF-P